ENVIRONMENTAL PROTECTION AGENCY

[EPA-HQ-OPP-2018-0014; FRL-10004-10]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before March 5, 2020.

ADDRESSES: Submit your comments, identified by docket identification (ID) number EPA-HQ-OPP-2018-0014, by one of the following methods:

Federal eRulemaking Portal: http://www.regulations.gov. Follow the online instructions for submitting comments. Do not submit electronically any information you consider to be Confidential Business Information (CBI) or other information whose disclosure is restricted by statute.

Mail: OPP Docket, Environmental Protection Agency Docket Center (EPA/DC), (28221T), 1200 Pennsylvania Ave. NW, Washington, DC 20460-0001.

Submit written withdrawal request by mail to: Information Technology and Resources Management Division (7502P), Office of Pesticide Programs, Environmental Protection Agency, 1200 Pennsylvania Ave., NW, Washington, DC 20460-0001. ATTN: Christopher Green.

Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants to cancel certain pesticide products and amend product registrations to terminate certain uses registered under FIFRA section 3 (7 U.S.C. 136a) or 24(c) (7 U.S.C. 136v(c)). The affected products and the registrants making the requests are identified in Tables 1-3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredients
464-8123 | 464 | Filmguard IPBC 100 Fungicidal Agent (Active), Bioban IPBC 100 Antimicrobial (Alternate) | Carbamic acid, butyl-, 3-iodo-2-propynyl ester.
464-8125 | 464 | Filmguard IPBC 20 Fungicidal Agent (Active), Bioban IPBC 20 Antimicrobial and Bioban IPBC 20 LE (Alternate) | Carbamic acid, butyl-, 3-iodo-2-propynyl ester.
499-322 | 499 | Whitmire Avert PT 300 Pressurized Spray | Abamectin.
499-383 | 499 | Whitmire Avert PT 310 HO Abamectin Bait Dust | Abamectin.
499-394 | 499 | Whitmire Avert Prescription Treatment 320 Crack & Crevice Gel Bait | Abamectin.
499-406 | 499 | Avert Prescription Treatment TC 93A Bait | Abamectin.
499-410 | 499 | Avert Prescription Treatment TC 93B Bait | Abamectin.
499-434 | 499 | Whitmire TC 149A Insecticide | Abamectin.
499-440 | 499 | Whitmire TC 149B | Abamectin.
499-467 | 499 | Whitmire Avert TC 181 | Abamectin.
1448-100 | 1448 | Busan 1069 | 2-(Thiocyanomethylthio)benzothiazole.
1448-341 | 1448 | Busan 1127 | 2-(Thiocyanomethylthio)benzothiazole.
3573-73 | 3573 | Tide with Bleach Opal | Hydrogen peroxide & Nonanoic acid, sulfophenyl ester, sodium salt.
4959-34 | 4959 | YYY Disinfectant | Iodine.
5185-498 | 5185 | Bioguard Crystal Blue Mineral Cartridge | Silver nitrate.
7364-60 | 7364 | Spa/Hot Tub Products Chlorinating Concentration Granular | Sodium dichloro-s-triazinetrione.
7969-189 | 7969 | Baseline Plant Regulator | Prohexadione calcium.
8378-54 | 8378 | Gro-Fine Bayleton Fungicide | Triadimefon.
8378-55 | 8378 | Shaw's Fungicide 100 | Triadimefon.
9198-187 | 9198 | Andersons Golf Products Fungicide VII | Triadimefon.
9198-190 | 9198 | Andersons Golf Products Fertilizer Plus Fungicide VII | Triadimefon.
9386-7 | 9386 | AMA-31 | Nabam & Sodium dimethyldithiocarbamate.
9386-11 | 9386 | AMA-30 | Nabam & Sodium dimethyldithiocarbamate.
9386-23 | 9386 | AMA-9 | Nabam & Sodium dimethyldithiocarbamate.
10324-18 | 10324 | Algaesil | Nanosilver 002.
10324-165 | 10324 | Maquat MC1416-90% | Alkyl* dimethyl benzyl ammonium chloride *(60%C14, 30%C16, 5%C18, 5%C12).
33677-1 | 33677 | Tolcide(R) MBT | Methylene bis(thiocyanate).
34688-76 | 34688 | Aquatreat DNM-30 | Nabam & Sodium dimethyldithiocarbamate.
34688-77 | 34688 | Aquatreat KM | Potassium dimethyldithiocarbamate.
34688-78 | 34688 | Aquatreat SDM | Sodium dimethyldithiocarbamate.
34688-79 | 34688 | Aquatreat DN-30 | Nabam.
34704-882 | 34704 | Oryzalin T&O | Oryzalin.
34704-918 | 34704 | Ethofume SC Herbicide | Ethofumesate.
34704-949 | 34704 | Intensity Max | Clethodim.
35917-2 | 35917 | Iodinated Resin H-465 | Iodine.
45309-12 | 45309 | Spa Clear Spa Chlor-56 | Sodium dichloro-s-triazinetrione.
45309-21 | 45309 | Aqua Clear Iso-Gran | Sodium dichloro-s-triazinetrione.
45309-59 | 45309 | Aqua Clear Aqua-Shock | Sodium dichloro-s-triazinetrione.
45309-61 | 45309 | Aqua Clear Winterizer | Sodium dichloro-s-triazinetrione.
45309-84 | 45309 | Red Plug Cartridge with Concentrated Chlorinated Tablets | Trichloro-s-triazinetrione.
45309-94 | 45309 | Speed-Y-Tabs | Sodium dichloroisocyanurate dihydrate.
62719-694 | 62719 | MON 89034 X TC1507 X MIR162 | Bacillus thuringiensis Vip3Aa20 protein encoded by vector pNOV1300 in event MIR162 corn (SYN-IR162-4), % dw; Bacillus thuringiensis Cry1F protein and the genetic material necessary for its production (plasmid insert PHI8999) in corn; Bacillus thuringiensis Cry2Ab2 protein and the genetic material necessary (vector PV-ZMIR245) for its production in corn & Bacillus thuringiensis Cry1A.105 protein and genetic material necessary (vector PV-ZMIR245) for its production in corn.
67262-18 | 67262 | 3″ Stabilized Chlorinator Tablets | Trichloro-s-triazinetrione.
70506-50 | 70506 | Surflan 85DF | Oryzalin.
70506-51 | 70506 | Turf Fertilizer Contains Surflan 1% | Oryzalin.
70506-52 | 70506 | Turf Fertilizer Contains Surflan 0.75% | Oryzalin.
70506-53 | 70506 | Up-Shot DF Herbicide | Oryzalin & Isoxaben.
70506-54 | 70506 | Surflan 75W | Oryzalin.
70506-55 | 70506 | Turf Fertilizer Contains Galley Plus Surflan | Oryzalin & Isoxaben.
70506-96 | 70506 | Oryza Ag | Oryzalin.
70506-97 | 70506 | Oryza T&O | Oryzalin.
72616-9 | 72616 | Taratek TC | Triadimefon & Cyproconazole.
85678-55 | 85678 | Flucarbazone 35% SC | Flucarbazone-sodium.
87262-4 | 87262 | Compass THPS | Tetrakis(hydroxymethyl)phosphonium sulphate (THPS).
87262-6 | 87262 | Compass THPS 50 | Tetrakis(hydroxymethyl)phosphonium sulphate (THPS).
87262-7 | 87262 | Compass THPS 35 | Tetrakis(hydroxymethyl)phosphonium sulphate (THPS).
87262-8 | 87262 | Compass THPS 20 | Tetrakis(hydroxymethyl)phosphonium sulphate (THPS).
88276-1 | 88276 | Octopol DSM-30 | Nabam & Sodium dimethyldithiocarbamate.
89442-2 | 89442 | Ethofumesate Select | Ethofumesate.
91813-24 | 91813 | Agvalue Oryzalin Technical | Oryzalin.
AL-870002 | 400 | Dimilin 25W for Cotton/Soybean | Diflubenzuron.
CA-100013 | 63206 | Lorsban Advanced | Chlorpyrifos.
CA-790138 | 5481 | Orthene 75 S Soluble Powder | Acephate.
CA-950010 | 5481 | Fruit Fix Concentrate 200 | Ammonium 1-naphthaleneacetate.
CO-070003 | 71512 | Omega 500F | Fluazinam.
CO-080008 | 62719 | Lorsban Advanced | Chlorpyrifos.
CO-090005 | 71512 | Beleaf 50SG Insecticide | Flonicamid.
CO-140002 | 1381 | Carnivore Herbicide | MCPA, 2-ethylhexyl ester; Bromoxynil octanoate & Fluroxypyr-meptyl.
HI-090001 | 62719 | Lorsban Advanced | Chlorpyrifos.
WA-000035 | 352 | Curzate 60DF | Cymoxanil.
WA-020019 | 62719 | NAF-522 | Glyphosate-isopropylammonium.

Table 2—Product Registrations With Pending Requests for Amendment
Registration No. | Company No. | Product name | Active ingredient | Uses to be terminated
45728-7 | 45728 | Ferbam Granuflo | Ferbam | Grapes and cherries.
45728-14 | 45728 | Thionic Ziram Technical | Ziram | Industrial yarns and fabrics.

Table 3 of this unit includes the names and addresses of record for all the registrants of the products listed in Tables 1 & 2 of this unit, in sequence by EPA company number. This number corresponds to the first part of the EPA registration numbers of the products listed in Table 1 and Table 2 of this unit.

Table 3—Registrants Requesting Voluntary Cancellation and/or Amendments
EPA company No. | Company name and address
352 | E. I. Du Pont De Nemours and Company, 9330 Zionsville Road, Indianapolis, IN 46268.
400 | MacDermid Agricultural Solutions, Inc., C/O Arysta LifeScience North America, LLC, Agent Name: UPL NA, Inc., 630 Freedom Business Center, #402, King of Prussia, PA 19406.
464 | DDP Specialty Electronic Materials US, Inc., A Wholly Owned Subsidiary of The Dow Chemical Company, 1501 Larkin Center Drive, Midland, MI 48674.
499 | BASF Corporation, 26 Davis Drive, P.O. Box 13528, Research Triangle Park, NC 27709-3528.
1381 | Winfield Solutions, LLC, P.O. Box 64589, St. Paul, MN 55164-0589.
1448 | Buckman Laboratories, Inc., 1256 North Mclean Blvd., Memphis, TN 38108.
3573 | The Procter & Gamble Company, D/B/A Procter & Gamble, 5299 Spring Grove Ave.,—F&HC PS&RA, Cincinnati, OH 45217.
4959 | West Agro, Inc., 11100 N Congress Ave., Kansas City, MO 64153.
5185 | Bio-Lab, Inc., P.O. Box 300002, Lawrenceville, GA 30049-1002.
5481 | AMVAC Chemical Corporation, 4695 MacArthur Court, Suite 1200, Newport Beach, CA 92660-1706.
7364 | Innovative Water Care, LLC, D/B/A GLB Pool & Spa, 1400 Bluegrass Lakes Parkway, Alpharetta, GA 30004.
7969 | BASF Corporation, Agricultural Products, 26 Davis Drive, P.O. Box 13528, Research Triangle Park, NC 27709-3528.
8378 | Knox Fertilizer Company, Inc., Agent Name: Fred Betz Regulatory Strategies, 922 Melvin Road, Annapolis, MD 21403.
9198 | The Andersons, Inc., 1947 Briarfield Blvd., P.O. Box 119, Maumee, OH 43537.
9386 | Kemira Chemicals, Inc., 1000 Parkwood Circle, Suite 500, Atlanta, GA 30339.
10324 | Mason Chemical Company, 9075 Centre Pointe Dr., Suite 400, West Chester, OH 45069.
33677 | Solvay Solutions UK Limited, Agent Name: Delta Analytical Corporation, 12510 Prosperity Drive, Suite 160, Silver Spring, MD 20904.
34688 | Akzo Nobel Surface Chemistry, LLC, 525 W Van Buren St., Chicago, IL 60607-3823.
34704 | Loveland Products, Inc., P.O. Box 1286, Greeley, CO 80632-1286.
35917 | Hybrid Technologies Corporation, Agent Name: RegWest Company, LLC, 8209 West 20th Street, Suite B, Greeley, CO 80634-4699.
45309 | Aqua Clear Industries, LLC, P.O. Box 2456, Suwanee, GA 30024-0980.
45728 | Taminco US, LLC, A Subsidiary of Eastman Chemical Company, 200 S. Wilcox Dr., Kingsport, TN 37660-5147.
62719 | Dow Agrosciences, LLC, 9330 Zionsville Rd., 308/2E, Indianapolis, IN 46268-1054.
63206 | California Citrus Quality Council, 853 Lincoln Way, Suite 206, Auburn, CA 95603.
67262 | Recreational Water Products, Inc., D/B/A Recreational Water Products, P.O. Box 1449, Buford, GA 30515-1449.
70506 | UPL NA, Inc., 630 Freedom Business Center, Suite 402, King of Prussia, PA 19406.
71512 | ISK BioSciences Corporation, 7470 Auburn Road, Suite A, Concord, OH 44077.
72616 | Lonza NZ Limited, Agent Name: Arch Wood Protection, Inc., 3941 Bonsal Road, Conley, GA 30288.
85678 | RedEagle International, LLC, Agent Name: Wagner Regulatory Associates, Inc., P.O. Box 640, Hockessin, DE 19707.
87262 | Italmatch USA Corporation, 5544 Oakdale Road SE, Smyrna, GA 30082.
88276 | Tiarco Chemical Company, 1300 Tiarco Drive SW, Dalton, GA 30720.
89442 | Prime Source, LLC, Agent Name: Wagner Regulatory Associates, Inc., P.O. Box 640, 7217 Lancaster Pike, Suite A, Hockessin, DE 19707.
91813 | UPL Delaware, Inc., 630 Freedom Business Ctr., #402, King of Prussia, PA 19406.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation or termination action, the effective date of cancellation or termination and all other provisions of any earlier cancellation or termination action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Table 1 of Unit II.

A. For Products 464-8123, 10324-18 & 10324-165

For products 464-8123, 10324-18 & 10324-165, listed in Table 1 of Unit II, the registrants have requested 18-months to sell existing stocks. Registrants will be permitted to sell and distribute existing stocks of these products for 18-months after the effective date of the cancellation, which will be the date of publication of the cancellation order in the Federal Register. Thereafter, registrants will be prohibited from selling or distributing these products, except for export consistent with FIFRA section 17 (7 U.S.C. 136o) or for proper disposal.

B. For Products 87262-4, 87262-6, 87262-7 & 87262-8

For products 87262-4, 87262-6, 87262-7 & 87262-8, listed in Table 1 of Unit II, the registrant has requested to sell existing stocks until December 31, 2020. Registrants will be permitted to sell and distribute existing stocks of these products until December 31, 2020. Thereafter, registrants will be prohibited from selling or distributing these products, except for export consistent with FIFRA section 17 (7 U.S.C. 136o) or for proper disposal.

For all other voluntary product cancellations, identified in Table 1 of Unit II, registrants will be permitted to sell and distribute existing stocks of voluntarily canceled products for 1 year after the effective date of the cancellation, which will be the date of publication of the cancellation order in the Federal Register. Thereafter, registrants will be prohibited from selling or distributing all other products identified in Table 1 of Unit II, except for export consistent with FIFRA section 17 (7 U.S.C. 136o) or for proper disposal.

Once EPA has approved product labels reflecting the requested amendments to terminate uses, identified in Table 2 of Unit II, registrants will be permitted to sell or distribute products under the previously approved labeling for a period of 18-months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: January 21, 2020.
Delores Barber,
Director, Information Technology and Resources Management Division, Office of Pesticide Programs.

[FR Doc. 2020-02103 Filed 2-3-20; 8:45 am]

BILLING CODE 6560-50-P